DEPARTMENT OF JUSTICE

Drug Enforcement Administration

Importer of Controlled Substances Notice of Registration

By Notice dated July 9, 2002, and published in the Federal Register on August 6, 2002, (67 FR 50899), Penick Corporation, 158 Mount Olivet Avenue, Newark, New Jersey 07114, made application by renewal to the Drug Enforcement Administration (DEA) to be registered as a bulk manufacturer of the basic classes of controlled substances listed below:

Drug | Schedule
Codeine (9050) | II
Dihydrocodeine (9120) | II
Oxycodone (9143) | II
Hydromorphone (9150) | II
Hydrocodone (9193) | II
Morphine (9300) | II
Thebaine (9333) | II
Oxymorphone (9652) | II

The firm plans to bulk manufacture the listed controlled substances for the manufacture of bulk pharmaceutical controlled substances.

No comments or objections have been received. DEA has considered the factors in Title 21, U.S. section 823(a) and determined that the registration of Penick Corporation to manufacture the listed controlled substances is consistent with the public interest at this time. DEA has investigated Penick Corporation to ensure that the company's registration is consistent with the public interest. This investigation included inspection and testing of the company's physical security systems, verification of the company's compliance with state and local laws, and a review of the company's background and history. Therefore, pursuant to 21 U.S.C. 823 and 28 CFR 0.100 and 0.104, the Deputy Assistance Administrator, Office of Diversion Control, hereby orders that the application submitted by the above firm is granted registration as a bulk manufacturer of the basic classes of controlled substances listed.

Dated: February 28, 2003.
Laura M. Nagel,
Deputy Assistant Administrator, Office of Diversion Control, Drug Enforcement Administration.

[FR Doc. 03-6064 Filed 3-12-03; 8:45 am]

BILLING CODE 4410-09-M